DEPARTMENT OF LABOR

Employment and Training Administration

[TA-W-70,351]

National Semiconductor Corporation Arlington Manufacturing Site Including On-Site Leased Workers From GCA, CMPA (Silverleaf), Custom Foods, Allied Barton Security, ASIL, ASML and Construction Mechanical Systems Arlington, TX; Amended Certification Regarding Eligibility To Apply for Worker Adjustment Assistance

In accordance with Section 223 of the Trade Act of 1974, as amended (“Act”), 19 U.S.C. 2273, the Department of Labor issued a Certification of Eligibility to apply for Worker Adjustment Assistance on September 23, 2009, applicable to workers of National Semiconductor Corporation, Arlington Manufacturing Site, including on-site leased workers from GCA, CMPA, Custom Foods, Allied Barton Security, and ASML, Arlington, Texas. The notice was published in the Federal Register November 17, 2009 (74 FR 59253).

At the request of the State Agency, the Department reviewed the certification for workers of the subject firm. The workers are engaged in activities related to the production of integrated circuits.

The company reports that on-site leased workers from ASML and Construction Mechanical Systems were employed on-site at the Arlington, Texas location of National Semiconductor Corporation. The Department has determined that these workers were sufficiently under the control of the subject firm to be considered leased workers. Information also shows that on-site leased workers separated from employment at CMPA had their wages reported under a separated unemployment insurance (UI) tax account for Silverleaf.

Based on these findings, the Department is amending the certification to include workers leased from ASML and Construction Mechanical Systems working on-site at the Arlington, Texas location of National Semiconductor Corporation, Arlington Manufacturing Site and to show that on-site leased workers from CMPS have their (UI) wages reported to Silverleaf.

The amended notice applicable to TA-W-70,351 is hereby issued as follows:

All workers of National Semiconductor Corporation, Arlington Manufacturing Site, including on-site leased workers from GCA, CMPA (Silverleaf), Custom Foods, Allied Barton Security, ASML, and Construction Mechanical Systems, Arlington, Texas, who became totally or partially separated from employment on or after May 18, 2008, through September 23, 2011, and all workers in the group threatened with total or partial separation from employment on date of certification through two years from the date of certification, are eligible to apply for adjustment assistance under Chapter 2 of Title II of the Trade Act of 1974, as amended.

Signed in Washington, DC, this 16th day of December, 2009.
Richard Church,
Certifying Officer, Division of Trade Adjustment Assistance.

[FR Doc. E9-31390 Filed 1-5-10; 8:45 am]

BILLING CODE 4510-FN-P